DEPARTMENT OF TRANSPORTATION

Federal Aviation Administration

14 CFR Part 39

[Docket No. FAA-2011-0923; Directorate Identifier 2009-SW-20-AD; Amendment 39-16794; AD 2011-18-12]

RIN 2120-AA64

Airworthiness Directives; Eurocopter France (ECF) Model AS350B, B1, B2, B3, BA, and D; and AS355E, F, F1, F2, and N Helicopters

AGENCY: Federal Aviation Administration (FAA), Department of Transportation (DOT).

ACTION: Final rule; request for comments.

SUMMARY: We are superseding an existing airworthiness directive (AD) for the specified ECF model helicopters. This AD results from a mandatory continuing airworthiness information (MCAI) AD issued by the European Aviation Safety Agency (EASA), which is the Technical Agent for the Member States of the European Union. The MCAI AD states that some cracks have been discovered in the spar of the upper fin on Model AS355N helicopters. Due to the fin design similarity between AS350 and AS355 helicopters, this AD action applies to both helicopter models. Modifying the upper and lower fin attachment is intended to prevent failure of a spar, loss of a fin, a separated fin hitting a rotor, and subsequent loss of control of a helicopter.

DATES: This AD becomes effective on February 8, 2012.

The incorporation by reference of certain publications is approved by the Director of the Federal Register as of February 8, 2012.

We must receive comments on this AD by March 26, 2012.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

You may get the service information identified in this AD from American Eurocopter Corporation, 2701 Forum Drive, Grand Prairie, TX 75053-4005, telephone (972) 641-3460, fax (972) 641-3527, or at http://www.eurocopter.com.

Examining The Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: Jim Grigg, ASW-112, Aviation Safety Engineer, Rotorcraft Directorate, Safety Management Group, 2601 Meacham Blvd., Fort Worth, Texas 76137, telephone (817) 222-5126, fax (817) 222-5961.

SUPPLEMENTARY INFORMATION:

Discussion

On March 11, 1983, we issued AD 82-13-05 R1, Amendment 39-4567 (48 FR 13406, March 31, 1983), which revised AD 82-13-05, Amendment 39-4401 (47 FR 27244, June 24, 1982), which superseded AD 82-02-02, Amendment 39-4294 (47 FR 1113, January 11, 1982). The current AD requires a visual check for a crack in the flanges of the upper vertical fin support before the first flight each day. It also requires an initial 10 hours time-in-service (TIS) inspection and thereafter, at intervals not to exceed 50 hours TIS, repetitive dye-penetrant or equivalent inspections for a crack in the flange of the upper vertical fin support. Since we issued those ADs, there have been additional reports of cracks in the spar area of the upper tail fin of the ECF Model AS355N helicopters.

EASA, which is the Technical Agent for the Member States of the European Union, has issued EASA AD No. 2009-0030, dated February 12, 2009, which supersedes EASA AD 2008-0121, dated June 27, 2008, for the AS350 helicopters. EASA has also issued AD No. 2009-0029, dated February 12, 2009, which supersedes EASA AD 2008-0120, dated June 27, 2008, for the AS355 helicopters. This latest unsafe condition results from additional cracks that have been discovered in the spar of the upper fin on Model AS355N helicopters. Due to the fin design similarity between AS350 and AS355 helicopters, the same corrective action applies to both model helicopters. Modifying the upper and lower fin attachment is intended to prevent failure of a spar, loss of a fin, a separated fin hitting a rotor, and subsequent loss of control of a helicopter.

You may obtain further information by examining the MCAI and any related service information in the AD docket.

Related Service Information

ECF has issued Alert Service Bulletin (ASB) No. 55.00.12, Revision 1, dated January 5, 2009, specifying MOD 073330 for the Model AS355E, F, F1, F2, and N helicopters and No. 55.00.16, Revision 1, dated January 5, 2009, specifying MOD 073330 for the Model SA350B, B1, B2, B3, BA, BB, D, and L1 helicopters. ECF has also issued ASB No. 55.00.11, Revision 2, dated February 28, 2008, specifying MOD 073288 for the AS355 E, F, F1, F2, and N helicopters and No. 55.00.13, Revision 2, dated February 28, 2008, specifying MOD 073288 for the AS350B3 helicopters. These ASBs specify various inspections and modifications for improving or monitoring upper and lower fin attachments and improving the attachment strength for upper and lower tailboom fin. The actions described in the MCAI AD are intended to correct the same unsafe condition as that identified in the service information.

FAA's Evaluation and Unsafe Condition Determination

These products have been approved by the aviation authority of France and are approved for operation in the United States. Pursuant to our bilateral agreement with France, EASA, their technical agent, has notified us of the unsafe condition described in the MCAI AD. We are issuing this AD because we evaluated all information provided by the EASA and determined the unsafe condition exists and is likely to exist or develop on other ECF helicopters of these same type designs.

Differences Between This AD and the MCAI

We refer to flight hours as hours time-in-service. The dates in the MCAI have already passed; therefore, we did not use them in this AD. Also, some of the requirements are out-of-date, and we have not included them in this AD. We have also made some minor editorial changes for clarity.

Costs of Compliance

We estimate that this AD will affect about 791 helicopters of U.S. registry. We also estimate that it will take about 4 work-hours per helicopter to modify the upper and lower fins and the upper and lower fin attachments. The average labor rate is $85 per work-hour. Required parts will cost about $453. Based on these figures, we estimate the cost of this AD on U.S. operators will be $793 to modify each helicopter or $627,263 for the fleet, assuming every helicopter is modified.

FAA's Determination of the Effective Date

An unsafe condition exists that requires the immediate adoption of this superseding AD. We find that the risk to the flying public justifies waiving notice and comment prior to adoption of this rule because of reported cracks in the spar of the upper fin on AS355N helicopters. The growth of a crack in a fin attachment spar might occur quickly and if not corrected, lead to failure of a spar, loss of a fin, a separated fin hitting a rotor, and subsequent loss of control of the helicopter. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2011-0923; Directorate Identifier 2009-SW-20-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979).

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-18-12 Eurocopter France: Amendment 39-16794. Docket No. FAA-2011-0923; Directorate Identifier 2009-SW-20-AD.

Effective Date

(a) This airworthiness directive (AD) becomes effective on February 8, 2012.

Other Affected ADs

(b) This AD supersedes AD 82-13-05R1, Amendment 39-4567, Docket No. 83-ASW-09 (48 FR 13406; March 31, 1983); which revised AD 82-13-05, Amendment 39-4401 (47 FR 27244; June 24, 1982); which superseded AD 82-02-02, Amendment 39-4294 (47 FR 1113; January 11, 1982).

Applicability

(c) This AD applies to Model AS350B, B1, B2, B3, BA, and D; and AS355E, F, F1, F2, and N helicopters with upper and lower fins assemblies, installed, that have a part number (P/N) as follows:

(1) For the Model AS350B, B1, B2, B3, BA, and D helicopters, certificated in any category:

Upper fin assembly P/N: | Lower fin assembly P/N:
350A14-0020-00XX | 350A14-0021-00XX
350A14-0020-01XX | 350A14-0021-01XX
350A14-0020-02XX | 350A14-0021-02XX
350A14-0020-03XX | 350A14-0021-03XX
350A14-0020-08XX | 350A14-0021-04XX
350A14-0020-09XX |
350A14-0020-10XX |
350A14-0020-17XX |
350A14-0020-18XX |
350A14-0020-19XX |
350A64-1144-00XX |

(2) For the Model AS355E, F, F1, F2, and N helicopters, certificated in any category:

Upper fin assembly P/N: | Lower fin assembly P/N:
355A14-0522-00XX | 355A14-0521-00XX
355A14-0522-01XX | 355A14-0521-01XX
355A14-0522-02XX | 355A14-0521-02XX
355A14-0522-03XX | 355A14-0521-03XX
355A14-0522-13XX |
355A14-0522-14XX |
355A14-0522-15XX |

Reason

(d) The mandatory continuing airworthiness information (MCAI) AD states that some cracks have been discovered in the spar of the upper fin on Model AS355N helicopters. Due to the fin design similarity between AS350 and AS355 helicopters, the same corrective action applies to both types of helicopters.

Actions and Compliance

(e) Within 30 days, unless accomplished previously:

(1) For Model AS350 helicopters with part numbers listed in paragraph (c)(1) of this AD, modify each fin as depicted in Figure 1 and by following the Accomplishment Instructions, paragraph 2.B.2., Eurocopter Model AS350 Alert Service Bulletin (ASB) No. 55.00.16, Revision 1, dated January 5, 2009.

(2) For Model AS355 helicopters with part numbers listed in paragraph (c)(2) of this AD, modify each fin as depicted in Figure 1 and by following the Accomplishment Instructions, paragraph 2.B.2., of Eurocopter AS 355 ASB 55.00.12, Revision 1, dated January 5, 2009.

Note: Eurocopter Safety Information Notice No. 2315-S-55, Revision 1, dated April 21, 2011, not incorporated by reference, contains information about the subject of this AD.

Differences Between This AD and the MCAI

(f) We refer to flight hours as hours TIS. The dates in the MCAI have already passed; therefore, we did not use them in this AD. Also, some of the requirements are out-of-date, and we have not included them in this AD. We have also made some minor editorial changes for clarity.

Other Information

(g) The Manager, Safety Management Group, Rotorcraft Directorate, ATTN: FAA Safety Management Group, Jim Grigg., ASW-112, Aviation Safety Engineer, 2601 Meacham Blvd., Fort Worth, Texas 76137, telephone (817) 222-5126, fax (817) 222-5961, has the authority to approve AMOCs for this AD, if requested using the procedures found in 14 CFR 39.19.

(h) Special flight permits are prohibited.

Related Information

(i) EASA MCAI Airworthiness Directive Nos. 2009-0029 and 2009-0030, both dated February 12, 2009, contain related information.

Joint Aircraft System/Component Code

(j) The Joint Aircraft System/Component (JASC) Code is: 5531—Vertical stabilizer spar/rib structure.

Material Incorporated by Reference

(k) You must use the specified portions of the service information specified in this AD to do the actions required. The Director of the Federal Register approved the incorporation by reference of this service information under 5 U.S.C. 552(a) and 1 CFR part 51.

(1) Eurocopter Model AS350 Alert Service Bulletin No. 55.00.16, Revision 1, dated January 5, 2009; and

(2) Eurocopter Model AS 355 Alert Service Bulletin No. 55.00.12, Revision 1, dated January 5, 2009.

(3) For service information identified in this AD, contact American Eurocopter Corporation, 2701 Forum Drive, Grand Prairie, TX 75053-4005, telephone (972) 641-3460, fax (972) 641-3527, or at http://www.eurocopter.com.

(4) You may review copies at the DOT/FAA, Southwest Region, Office of the Regional Counsel, 2601 Meacham Blvd., Fort Worth, Texas 76137; or at the National Archives and Records Administration (NARA). For information on the availability of this material at NARA, call (202) 741-6030, or go to: http://www.archives.gov/federal-register/cfr/ibr-locations.html.

Issued in Fort Worth, Texas, on August 19, 2011.
Kim Smith,
Manager, Rotorcraft Directorate, Aircraft Certification Service.

[FR Doc. 2012-365 Filed 1-23-12; 8:45 am]

BILLING CODE 4910-13-P